FEDERAL MARITIME COMMISSION

Ocean Transportation Intermediary License Reissuance

The Commission gives notice that the following Ocean Transportation Intermediary license has been reissued pursuant to section 19 of the Shipping Act of 1984 (46 U.S.C. 40101).

License No.: 014384N.

Name: Technical Consulting Shipping, Inc. dba T.C. Shipping, Inc.

Address: 19407 Park Row, Suite 195, Houston, TX 77084.

Date Reissued: May 5, 2014.

Sandra L. Kusumoto,
Director, Bureau of Certification and Licensing.

[FR Doc. 2014-13539 Filed 6-10-14; 8:45 am]

BILLING CODE 6730-01-P